DEPARTMENT OF AGRICULTURE

Forest Service

Siskiyou County Resource Advisory Committee

AGENCY: Forest Service, USDA.

ACTION: Notice of meeting.

SUMMARY: The Siskiyou County Resource Advisory Committee will meet in Yreka, California, May 15, 2006. The meeting will include routine business, and discussion and recommendation of fifteen (15) previously submitted project proposals.

DATES: The meeting will be held May 15, 2006, from 4 p.m. until 6 p.m.

ADDRESSES: The meeting will be held at the Yreka High School Library, Preece Way, Yreka, California.

FOR FURTHER INFORMATION CONTACT: Bob Talley, RAC Coordinator, Klamath National Forest, (530) 841-4423 or electronically at rtalley@fs.fed.us.

SUPPLEMENTARY INFORMATION: The meeting is open to the public. Public comment opportunity will be provided and individuals will have the opportunity to address the Committee at that time.

Dated: May 3, 2006.
Margaret J. Boland,
Designated Federal Official.

[FR Doc. 06-4308 Filed 5-8-06; 8:45 am]

BILLING CODE 3410-11-M